ENVIRONMENTAL PROTECTION AGENCY

40 CFR Parts 9, 22, 85, 86, 600, 1033, 1036, 1037, 1039, 1042, 1065, 1066, and 1068

DEPARTMENT OF TRANSPORTATION

National Highway Traffic Safety Administration

49 CFR Parts 512, 523, 534, 535, 537, and 583

[EPA-HQ-OAR-2014-0827; NHTSA-2014-0132; FRL-9931-48-OAR]

RIN 2060-AS16; 2127-AL52

Greenhouse Gas Emissions and Fuel Efficiency Standards for Medium- and Heavy-Duty Engines and Vehicles—Phase 2; Notice of Public Hearings and Comment Period

Correction

Proposed Rule document 2015-18527 was inadvertently published in the Rules section of the issue of July 28, 2015, beginning on page 44893. It should have appeared in the Proposed Rules section.

[FR Doc. 2015-19297 Filed 8-3-15; 11:15 am]

BILLING CODE 6560-50-P